DEPARTMENT OF COMMERCE

International Trade Administration

[A-583-858]

Certain Carbon and Alloy Steel Cut-to-Length Plate From Taiwan: Final Results of Antidumping Duty Administrative Review and Final Determination of No Shipments; 2016-2018

AGENCY: Enforcement and Compliance, International Trade Administration, Department of Commerce.

SUMMARY: The Department of Commerce (Commerce) finds that producers or exporters of certain carbon and alloy steel cut-to-length plate (CTL plate) from Taiwan sold subject merchandise at less than normal value during the period of review (POR), November 14, 2016 through April 30, 2018.

DATES: Applicable January 2, 2020.

FOR FURTHER INFORMATION CONTACT: Joshua Tucker or Darla Brown, AD/CVD Operations, Office II, Enforcement and Compliance, International Trade Administration, U.S. Department of Commerce, 1401 Constitution Avenue NW, Washington, DC 20230; telephone: (202) 482-2044 or (202) 482-1791, respectively.

SUPPLEMENTARY INFORMATION:

Background

This review covers 19 producers or exporters. Commerce selected two companies, China Steel Corporation (CSC) and Shang Chen Steel Co., Ltd. (SCS), for individual examination. The producers or exporters not selected for individual examination are listed in the “Final Results of the Review” section of this notice.

On July 17, 2019, Commerce published the Preliminary Results.¹ On August 16, 2019, we received a case brief from ArcelorMittal USA LLC, the petitioner in this administrative review.² On April 12, 2019, we received a rebuttal brief from SCS.³

¹ See Certain Carbon and Alloy Steel Cut-to-Length Plate from Taiwan: Preliminary Results of Antidumping Duty Administrative Review and Preliminary Determination of No Shipments; 2016-2018, 84 FR 34127 (July 17, 2019) (Preliminary Results).

² See Petitioner's Letter, “Carbon and Alloy Steel Cut-to-Length Plate from the Taiwan: Petitioner's Case Brief for Shang Chen Steel Co., Ltd.,” dated August 16, 2019.

³ See SCS's Letter, “Rebuttal Brief of Shang Chen Steel Co., Ltd.,” dated August 21, 2019.

Scope of the Order

The merchandise subject to the order is CTL plate. The product is currently classified under the following Harmonized Tariff Schedule of the United States (HTSUS) item numbers: 7208.40.3030, 7208.40.3060, 7208.51.0030, 7208.51.0045, 7208.51.0060, 7208.52.0000, 7211.13.0000, 7211.14.0030, 7211.14.0045, 7225.40.1110, 7225.40.1180, 7225.40.3005, 7225.40.3050, 7226.20.0000, and 7226.91.5000. Although the HTSUS numbers are provided for convenience and for customs purposes, the written product description remains dispositive. For a complete description of the scope of the order, see Appendix I of this notice.

Analysis of Comments Received

All issues raised in the case and rebuttal briefs are listed in Appendix II to this notice and addressed in the IDM.⁴ Interested parties can find a complete discussion of these issues and the corresponding recommendations in this public memorandum, which is on file electronically via Enforcement and Compliance's Antidumping and Countervailing Duty Centralized Electronic Service System (ACCESS). ACCESS is available to registered users at http://access.trade.gov, and ACCESS is also available to all interested parties in the Central Records Unit, Room B8024, of the main Commerce building. In addition, a complete version of the IDM can be accessed directly at http://enforcement.trade.gov/frn/index.html. The signed IDM and the electronic version of the IDM are identical in content.

⁴ See Memorandum, “Issues and Decision Memorandum for the Final Results of the 2016-2018 Administrative Review of the Antidumping Duty Order on Certain Carbon and Alloy Steel Cut-To-Length Plate from Taiwan” (IDM), dated concurrently with, and hereby adopted by, this notice.

Changes Since the Preliminary Results

Based on a review of the record and comments received from interested parties regarding our Preliminary Results, we made no changes to the weighted-average dumping margin for SCS from that presented in the Preliminary Results; however, we did make certain changes to SCS's reported entered value.⁵

⁵ See IDM at Comment 3.

Determination of No Shipments

As noted in the Preliminary Results, we received no-shipment claims from Chun Chi Grating Co., Ltd. (Chun Chi), Product Depot International Corp. (Product Depot), and CSC, and we preliminarily determined that Chun Chi, Product Depot, and CSC had no shipments during the POR.⁶ We received no comments from interested parties with respect to this claim. Therefore, because the record indicates that Chun Chi, Product Depot, and CSC had no entries of subject merchandise to the United States during the POR, we continue to find that Chun Chi, Product Depot, and CSC had no shipments during the POR.

⁶ See Preliminary Results, 84 FR at 34127.

Final Results of the Review

We are assigning the following weighted-average dumping margins to the firms listed below for the period November 14, 2016 through April 30, 2018:

Producer or exporter | Weighted- average dumping margin (percent)
Shang Chen Steel Co., Ltd | 2.59

Review-Specific Average Rate Applicable to the Following Companies: ⁷

⁷ This rate is the rate calculated for SCS.

Exporter or producer | Weighted- average dumping margin (percent)
Broad Hand Enterprise Co., Ltd | 2.59
C.H. Robinson Freight Services | 2.59
Eci Taiwan Co., Ltd | 2.59
Locksure Inc | 2.59
Nan Hoang Traffic Instrument Co | 2.59
New Marine Consolidator Co., Ltd | 2.59
North America Mining Group Co., Ltd | 2.59
Oriental Power Logistics Co., Ltd | 2.59
Scanwell Logistics (Taiwan) | 2.59
Shin Yang Steel Co., Ltd | 2.59
Shye Yao Steel Co., Ltd | 2.59
Speedmark Consolidation | 2.59
Sumeeko Industries Co., Ltd | 2.59
Triple Merits Ltd | 2.59
UKI Enterprise Co., Ltd | 2.59

Disclosure of Calculations

We intend to disclose the calculations performed within five days of the date of publication of this notice to parties in this proceeding, in accordance with 19 CFR 351.224(b).

Assessment Rates

Pursuant to section 751(a)(2)(C) of the Act, and 19 CFR 351.212(b)(1), Commerce has determined, and U.S. Customs and Border Protection (CBP) shall assess, antidumping duties on all appropriate entries of subject merchandise in accordance with the final results of this review.

Pursuant to 19 CFR 351.212(b)(1), we calculated importer-specific ad valorem duty assessment rates based on the ratio of the total amount of dumping calculated for the examined sales to the total entered value of those sales. Where either the respondent's weighted-average dumping margin is zero or de minimis within the meaning of 19 CFR 351.106(c)(1), or an importer-specific assessment rate is zero or de minimis, we will instruct CBP to liquidate the appropriate entries without regard to antidumping duties. We further will instruct CBP to take into account the “provisional measures deposit cap,” in accordance with 19 CFR 351.212(d).

For the companies which were not selected for individual review, we will assign an assessment rate equal to SCS's dumping margin identified above.⁸ The final results of this review shall be the basis for the assessment of antidumping duties on entries of merchandise covered by the final results of this review and for future deposits of estimated duties, where applicable.⁹

⁸ The Act does not specify how to calculate a dumping margin for a respondent that is not selected for individual review in an administrative review. Therefore, we look to section 735(c)(5)(A) of the Act, which explains how to calculate the “all others” rate in an investigation, for guidance. Consistent with how we would calculate the “all others” rate in an investigation, we are basing the dumping margin for non-selected companies on the weighted-average dumping margin calculated for the selected respondent, SCS.

⁹ See section 751(a)(2)(C) of the Act.

We intend to issue liquidation instructions to CBP 15 days after publication of the final results of this review.

Cash Deposit Requirements

The following cash deposit requirements will be effective for all shipments of the subject merchandise entered, or withdrawn from warehouse, for consumption on or after the publication date of the final results of this administrative review, as provided by section 751(a)(2)(C) of the Act: (1) The cash deposit rate for each specific company listed above will be equal to the weighted-average dumping margin that is established in the final results of this review, except if the rate is less than 0.50 percent and therefore de minimis within the meaning of 19 CFR 351.106(c)(1), in which case the cash deposit rate will be zero; (2) for previously investigated companies not listed above, including the company for Commerce has determined had no shipments in these final results, the cash deposit rate will continue to be the company-specific rate published for the most recently completed segment of this proceeding in which the company participated; (3) if the exporter is not a firm covered in this review, or the original less-than-fair-value (LTFV) investigation, but the manufacturer is, then the cash deposit rate will be the cash deposit rate established for the most recently completed segment for the producer of the subject merchandise; and (4) the cash deposit rate for all other producers or exporters will continue to be 39.52 percent, the all-others rate established in the LTFV investigation.¹⁰ These deposit requirements, when imposed, shall remain in effect until further notice.

¹⁰ See Certain Carbon and Alloy Steel Cut-To-Length Plate from Austria, Belgium, France, the Federal Republic of Germany, Italy, Japan, the Republic of Korea, and Taiwan: Amended Final Affirmative Antidumping Determinations for France, the Federal Republic of Germany, the Republic of Korea and Taiwan, and Antidumping Duty Orders, 82 FR 24096 (May 25, 2017).

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of double antidumping duties.

Administrative Protective Order

This notice serves as the only reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is issued and published in accordance with sections 751(a)(1) and 777(i)(1) of the Act and 19 CFR 351.221(b)(5).

Dated: December 20, 2019.
Jeffrey I. Kessler,
Assistant Secretary for Enforcement and Compliance.

Appendix I

The products covered by this order are certain carbon and alloy steel hot-rolled or forged flat plate products not in coils, whether or not painted, varnished, or coated with plastics or other non- metallic substances (cut-to-length plate). Subject merchandise includes plate that is produced by being cut-to-length from coils or from other discrete length plate and plate that is rolled or forged into a discrete length. The products covered include (1) Universal mill plates (i.e., flat-rolled products rolled on four faces or in a closed box pass, of a width exceeding 150 mm but not exceeding 1250 mm, and of a thickness of not less than 4 mm, which are not in coils and without patterns in relief), and (2) hot-rolled or forged flat steel products of a thickness of 4.75 mm or more and of a width which exceeds 150 mm and measures at least twice the thickness, and which are not in coils, whether or not with patterns in relief. The covered products described above may be rectangular, square, circular or other shapes and include products of either rectangular or non-rectangular cross-section where such non-rectangular cross- section is achieved subsequent to the rolling process, i.e., products which have been “worked after rolling” (e.g., products which have been beveled or rounded at the edges). For purposes of the width and thickness requirements referenced above, the following rules apply:

(1) Except where otherwise stated where the nominal and actual thickness or width measurements vary, a product from a given subject country is within the scope if application of either the nominal or actual measurement would place it within the scope based on the definitions set forth above unless the product is already covered by an order existing on that specific country (i.e., Notice of Antidumping Duty Order; Certain Hot-Rolled Carbon Steel Flat Products From Taiwan, 66 FR 59563 (November 29, 2001)); and

(2) where the width and thickness vary for a specific product (e.g., the thickness of certain products with non-rectangular cross-section, the width of certain products with non-rectangular shape, etc.), the measurement at its greatest width or thickness applies.

Steel products included in the scope of this order are products in which: (1) Iron predominates, by weight, over each of the other contained elements; and (2) the carbon content is 2 percent or less by weight.

Subject merchandise includes cut-to-length plate that has been further processed in the subject country or a third country, including but not limited to pickling, oiling, levelling, annealing, tempering, temper rolling, skin passing, painting, varnishing, trimming, cutting, punching, beveling, and/or slitting, or any other processing that would not otherwise remove the merchandise from the scope of the order if performed in the country of manufacture of the cut-to-length plate.

All products that meet the written physical description, are within the scope of this order unless specifically excluded or covered by the scope of an existing order. The following products are outside of, and/or specifically excluded from, the scope of this order:

(1) Products clad, plated, or coated with metal, whether or not painted, varnished or coated with plastic or other non-metallic substances;

(2) Military grade armor plate certified to one of the following specifications or to a specification that references and incorporates one of the following specifications:

• MIL-A-12560,

• MIL-DTL-12560H,

• MIL-DTL-12560J,

• MIL-DTL-12560K,

• MIL-DTL-32332,

• MIL-A-46100D,

• MIL-DTL-46100-E,

• MIL-46177C,

• MIL-S-16216K Grade HY80,

• MIL-S-16216K Grade HY100,

• MIL-S-24645A HSLA-80,

• MIL-S-24645A HSLA-100,

• T9074-BD-GIB-010/0300 Grade HY80,

• T9074-BD-GIB-010/0300 Grade HY100,

• T9074-BD-GIB-010/0300 Grade HSLA80,

• T9074-BD-GIB-010/0300 Grade HSLA100, and

• T9074-BD-GIB-010/0300 Mod. Grade HSLA115,

except that any cut-to-length plate certified to one of the above specifications, or to a military grade armor specification that references and incorporates one of the above specifications, will not be excluded from the scope if it is also dual- or multiple-certified to any other non-armor specification that otherwise would fall within the scope of this order;

(3) Stainless steel plate, containing 10.5 percent or more of chromium by weight and not more than 1.2 percent of carbon by weight;

(4) CTL plate meeting the requirements of ASTM A-829, Grade E 4340 that are over 305 mm in actual thickness;

(5) Alloy forged and rolled CTL plate greater than or equal to 152.4 mm in actual thickness meeting each of the following requirements:

(a) Electric furnace melted, ladle refined & vacuum degassed and having a chemical composition (expressed in weight percentages):

• Carbon 0.23-0.28,

• Silicon 0.05-0.20,

• Manganese 1.20-1.60,

• Nickel not greater than 1.0,

• Sulfur not greater than 0.007,

• Phosphorus not greater than 0.020,

• Chromium 1.0-2.5,

• Molybdenum 0.35-0.80,

• Boron 0.002-0.004,

• Oxygen not greater than 20 ppm,

• Hydrogen not greater than 2 ppm, and

• Nitrogen not greater than 60 ppm;

(b) With a Brinell hardness measured in all parts of the product including mid thickness falling within one of the following ranges:

(i) 270-300 HBW,

(ii) 290-320 HBW, or

(iii) 320-350HBW;

(c) Having cleanliness in accordance with ASTM E45 method A (Thin and Heavy): A not exceeding 1.5, B not exceeding 1.0, C not exceeding 0.5, D not exceeding 1.5; and

(d) Conforming to ASTM A578-S9 ultrasonic testing requirements with acceptance criteria 2 mm flat bottom hole;

(6) Alloy forged and rolled steel CTL plate over 407 mm in actual thickness and meeting the following requirements:

(a) Made from Electric Arc Furnace melted, Ladle refined & vacuum degassed, alloy steel with the following chemical composition (expressed in weight percentages):

• Carbon 0.23-0.28,

• Silicon 0.05-0.15,

• Manganese 1.20-1.50,

• Nickel not greater than 0.4,

• Sulfur not greater than 0.010,

• Phosphorus not greater than 0.020,

• Chromium 1.20-1.50,

• Molybdenum 0.35-0.55,

• Boron 0.002-0.004,

• Oxygen not greater than 20 ppm,

• Hydrogen not greater than 2 ppm, and

• Nitrogen not greater than 60 ppm;

(b) Having cleanliness in accordance with ASTM E45 method A (Thin and Heavy): A not exceeding 1.5, B not exceeding 1.5, C not exceeding 1.0, D not exceeding 1.5;

(c) Having the following mechanical properties:

(i) With a Brinell hardness not more than 237 HBW measured in all parts of the product including mid thickness; and having a Yield Strength of 75ksi min and UTS 95ksi or more, Elongation of 18% or more and Reduction of area 35% or more; having charpy V at −75 degrees F in the longitudinal direction equal or greater than 15 ft. lbs (single value) and equal or greater than 20 ft. lbs (average of 3 specimens) and conforming to the requirements of NACE MR01-75; or

(ii) With a Brinell hardness not less than 240 HBW measured in all parts of the product including mid thickness; and having a Yield Strength of 90 ksi min and UTS 110 ksi or more, Elongation of 15% or more and Reduction of area 30% or more; having charpy V at −40 degrees F in the longitudinal direction equal or greater than 21 ft. lbs (single value) and equal or greater than 31 ft. lbs (average of 3 specimens);

(d) Conforming to ASTM A578-S9 ultrasonic testing requirements with acceptance criteria 3.2 mm flat bottom hole; and

(e) Conforming to magnetic particle inspection in accordance with AMS 2301;

(7) Alloy forged and rolled steel CTL plate over 407 mm in actual thickness and meeting the following requirements:

(a) Made from Electric Arc Furnace melted, ladle refined & vacuum degassed, alloy steel with the following chemical composition (expressed in weight percentages):

• Carbon 0.25-0.30,

• Silicon not greater than 0.25,

• Manganese not greater than 0.50,

• Nickel 3.0-3.5,

• Sulfur not greater than 0.010,

• Phosphorus not greater than 0.020,

• Chromium 1.0-1.5,

• Molybdenum 0.6-0.9,

• Vanadium 0.08 to 0.12,

• Boron 0.002-0.004,

• Oxygen not greater than 20 ppm,

• Hydrogen not greater than 2 ppm, and

• Nitrogen not greater than 60 ppm.

(b) Having cleanliness in accordance with ASTM E45 method A (Thin and Heavy): A not exceeding 1.0(t) and 0.5(h), B not exceeding 1.5(t) and 1.0(h), C not exceeding 1.0(t) and 0.5(h), and D not exceeding 1.5(t) and 1.0(h);

(c) Having the following mechanical properties: A Brinell hardness not less than 350 HBW measured in all parts of the product including mid thickness; and having a Yield Strength of 145ksi or more and UTS 160ksi or more, Elongation of 15% or more and Reduction of area 35% or more; having charpy V at −40 degrees F in the transverse direction equal or greater than 20 ft. lbs (single value) and equal or greater than 25 ft. lbs (average of 3 specimens);

(d) Conforming to ASTM A578-S9 ultrasonic testing requirements with acceptance criteria 3.2 mm flat bottom hole; and

(e) Conforming to magnetic particle inspection in accordance with AMS 2301.

The products subject to the order are currently classified in the Harmonized Tariff Schedule of the United States (HTSUS) under item numbers: 7208.40.3030, 7208.40.3060, 7208.51.0030, 7208.51.0045, 7208.51.0060, 7208.52.0000, 7211.13.0000, 7211.14.0030, 7211.14.0045, 7225.40.1110, 7225.40.1180, 7225.40.3005, 7225.40.3050, 7226.20.0000, and 7226.91.5000.

The products subject to the order may also enter under the following HTSUS item numbers: 7208.40.6060, 7208.53.0000, 7208.90.0000, 7210.70.3000, 7210.90.9000, 7211.19.1500, 7211.19.2000, 7211.19.4500, 7211.19.6000, 7211.19.7590, 7211.90.0000, 7212.40.1000, 7212.40.5000, 7212.50.0000, 7214.10.0000, 7214.30.0010, 7214.30.0080, 7214.91.0015, 7214.91.0060, 7214.91.0090, 7225.11.0000, 7225.19.0000, 7225.40.5110, 7225.40.5130, 7225.40.5160, 7225.40.7000, 7225.99.0010, 7225.99.0090, 7226.11.1000, 7226.11.9060, 7226.19.1000, 7226.19.9000, 7226.91.0500, 7226.91.1530, 7226.91.1560, 7226.91.2530, 7226.91.2560, 7226.91.7000, 7226.91.8000, and 7226.99.0180.

The HTSUS subheadings above are provided for convenience and customs purposes only. The written description of the scope of the order is dispositive.

Appendix II

List of Topics Discussed in the Issues and Decision Memorandum

I. Summary

II. Background

III. Margin Calculations

IV. Discussion of the Issues

Comment 1: Issues with SCS's Sales Reconciliation

Comment 2: Issues with SCS's Reported Entry Data for U.S. Sales

Comment 3: Actions to Remedy SCS's Alleged Reporting Inaccuracies

V. Recommendation

[FR Doc. 2019-28326 Filed 12-31-19; 8:45 am]

BILLING CODE 3510-DS-P